DEPARTMENT OF ENERGY

Federal Energy Regulatory Commission

[Docket No. RP01-359-002]

Dominion Transmission, Inc.; Notice of Compliance Filing

July 19, 2001.

Take notice that on July 12, 2001, Dominion Transmission Inc. (DTI) tendered for filing as part of its FERC Gas Tariff, Third Revised Volume No. 1, the following tariff sheets, with an effective date of June 27, 2001:

First Revised Sheet No. 1132

First Revised Sheet No. 1133

First Revised Sheet No. 1134

DTI states that the filing is being made in compliance with the Commission's Letter Order, dated June 27, 2001, in Docket No. RP01-359-001. DTI states that First Revised Tariff Sheets Nos. 1132-1134 eliminate the stranded cost tracking mechanism contained in Section 18.2.B of the General Terms and Conditions of DTI's FERC Gas Tariff.

Section 18.2 of the General Terms & Conditions requires DTI to make quarterly stranded cost filings. On May 15, 2001, DTI requested a waiver of the requirement to return excess collections received through the stranded cost tracking mechanism. In support of its request, DTI stated that the contracts responsible for the stranded costs have expired on their own terms. The Commission granted the waiver but directed DTI to eliminate Section 18.2.B because it was no longer needed.

DTI states that copies of its letter of transmittal and enclosures have been served upon the parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18616 Filed 7-25-01; 8:45 am]

BILLING CODE 6717-01-M